DEPARTMENT OF LABOR

Office of the Secretary

Submission for OMB Review; Comment Request

May 31, 2000.

The Department of Labor (DOL) has submitted the following public information requests (ICRs) to the office of Management and Budget (OMB) for review and approval in accordance with the Paperwork Reduction Act of 1995 (Pub. L. 104-13, 44 U.S.C. Chapter 35). A copy of each individual ICR, with applicable supporting documentation, may be obtained by calling the Department of Labor. To obtain documentation for BLS, ETA, PWBA, and OASAM contact Karin Kurz (202-219-5096 ext. 159 or by E-mail to Kurz-Karin@dol.gov). To obtain documentation for ESA, MSHA, OSHA, and VETS contact Darrin King ((202) 219-5096 ext. 151 or by E-mail to King-Darrin@dol.gov).

Comments should be sent to Office of Information and Regulatory Affairs, Attn: Desk Officer for BLS, DM, ESA, ETA, MSHA, OSHA, PWBA, or VETS, Office of Management and Budget, Room 10235, Washington, DC 20503 ((202) 395-7316), within 30 days from the date of this publication in the Federal Register.

OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

Agency: Pension and Welfare Benefits Administration.

Title: Prohibited Transaction Exemption 97-41 Collective Investment Fund Conversion Transactions.

Type of Review: Extension of a currently approved collection.

OMB Number: 1210-0104.

Affected Public: Business or other for-profit; not-for-profit institutions; individuals or households.

Frequency of Response: On occasion.

Respondents: 75.

Responses: 75.

Total Estimated Burden Hours: 2,265.

Total Annualized Capital/Startup Costs: $0.

Total Annual Cost (Operating and Maintenance): $162,000.

Description: Section 408(a) of the ERISA gives the Secretary of Labor the right to grant a conditional or unconditional exemption of any fiduciary or class of fiduciaries or transactions, from all or part of the restrictions imposed by section 406 of ERISA. Prohibited Transaction Class Exemption 97-41 permits an employee benefit plan to purchase shares of one or more open-end management investment companies (Mutual Fund) registered under the Investment Advisers Act of 1940 and which also serves as a fiduciary of the plan, in exchange for plan assets transferred in-kind to the Mutual Fund from a collective investment fund (CIF) maintained by the bank or plan adviser, where the bank or plan adviser is both the adviser to the Mutual Fund and a fiduciary of the plan. The transfer must be in connection with a complete withdrawal of a plan's assets from the CIF. By requiring that the bank give to an independent fiduciary notice of the in-kind transfer, full written disclosure of the information concerning the Mutual Fund company, and any ongoing disclosures, this ICR insures that the exemption is not abused, the rights of the participants and beneficiaries are protected, and that compliance with the exemption's conditions is taking place.

Ira L. Mills,
Departmental Clearance Officer.

[FR Doc. 00-14149 Filed 6-5-00; 8:45 am]

BILLING CODE 4510-29-M